DEPARTMENT OF THE TREASURY

Submission for OMB Review; Comment Request

April 11, 2003.

The Department of Treasury has submitted the following public information collection requirement(s) to OMB for review and clearance under the Paperwork Reduction Act of 1995, Public Law 104-13. Copies of the submission(s) may be obtained by calling the Treasury Bureau Clearance Officers listed. Comments regarding this information collection should be addressed to the OMB reviewer listed and to the Treasury Department Clearance Officer, Department of the Treasury, Room 11000, 1750 Pennsylvania Avenue, NW., Washington, DC 20220.

DATES: Written comments should be received on or before May 19, 2003, to be assured of consideration.

Internal Revenue Service (IRS) and Financial Crimes Enforcement Network (FinCEN)

OMB Numbers: 1545-0892 and 1506-0018.

Form Numbers: IRS Form 8300 and FinCEN Form 8300.

Type of Review: Revision.

Title: Report of Cash Payments Over $10,000 Received in a Trade or Business.

Description: Anyone in a trade or business who, in the course of such trade or business, receives more than $10,000 in cash or foreign currency in one or more related transactions must report it to the IRS and provide a statement to the payor. Any transaction which must be reported under title 31 on Form 4789 is exempted from reporting the same transaction on Form 8300.

The USA Patriot Act of 2001 (Pub. L. 107-56) authorized the Financial Crimes Enforcement Network to collect the information reported on Form 8300. In a joint effort to develop a dual use form, IRS and FinCEN worked together to ensure that the transmission of the data collected to FinCEN on Forms 8300 does not violate the provisions of section 6103.

Respondents: Business or other for-profit, farms, Federal government.

Estimated Number of Respondents/Recordkeepers: 70,000.

Estimated Burden Hours Per Respondent/Recordkeeper: 21 minutes.

Frequency of Response: On occasion.

Estimated Total Reporting/Recordkeeping Burden: 87,757 hours.

Clearance Officer: Glenn Kirkland, Internal Revenue Service, Room 6411-03, 1111 Constitution Avenue, NW., Washington, DC 20224, (202) 622-3428.

Clearance Officer: Steve Rudzinski, Financial Crimes Enforcement Network, P.O. Box 39, Vienna, VA 22183, (703) 905-3845.

OMB Reviewer: Joseph F. Lackey, Jr., Office of Management and Budget, Room 10235, New Executive Office Building, Washington, DC 20503, (202) 395-7316.

Mary A. Able,
Departmental Reports Management Officer.

[FR Doc. 03-9617 Filed 4-17-03; 8:45 am]

BILLING CODE 4830-01-P; 4830-02-P